DEPARTMENT OF LABOR

Employment and Training Administration

[TA-W-61,811]

Micron Technology, Inc., Research and Development and Manufacturing, Including Onsite Leased Workers From Kelly Services, SOS, Manpower, Vot, Volt Technical, Fujitsu, Aerotek, Tek Systems and Bledsoe Construction, Inc., Boise, ID; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 13, 2007, applicable to workers of Micron Technology, Inc., Research and Development and Manufacturing, Boise, Idaho. The notice was published in the Federal Register on September 27, 2007 (72 FR 54939).

New information shows that workers leased workers from Bledsoe Construction, Inc. were employed on-site at the Boise, Idaho location of Micron Technology, Inc., Research and Development and Manufacturing, Boise, Idaho. The Department has determined that these workers were sufficiently under the control of Micron Technology, Inc., Research and Development and Manufacturing, Boise, Idaho to be considered leased workers.

Based on these findings, the Department is amending this certification to include workers leased from Bledsoe Construction, Inc. working on-site at the Boise, Idaho location of the subject firm.

The intent of the Department's certification is to include all workers employed at Micron Technology, Inc., Research and Development and Manufacturing, Boise, Idaho who were adversely affected by increased imports of memory chips.

The amended notice applicable to TA-W-61,811 is hereby issued as follows:

All workers of Micron Technology, Inc., Research and Development and Manufacturing, Boise, Idaho, including on-site leased workers of Kelly Services, SOS, Manpower, Volt, Vot Technical, Fujitsu, Aerotek, Tek Systems and Bledsoe Construction, Inc., who became totally or partially separated from employment on or after July 9, 2006, through September 13, 2009, are eligible to apply for adjustment assistance under Section 223 of the Trade Act of 1974 and are also eligible to apply for alternative trade adjustment assistance under Section 246 of the Trade Act of 1974.

Signed at Washington, DC, this 19th day of February 2009.
Richard Church,
Certifying Officer, Division of Trade Adjustment Assistance.

[FR Doc. E9-4392 Filed 3-2-09; 8:45 am]

BILLING CODE 4510-FN-P